DEPARTMENT OF TRANSPORTATION

Surface Transportation Board

[STB Finance Docket No. 34442]

Maritime Rail, LLC—Lease and Operation Exemption—Meadows Industrial Tracks

Maritime Rail, LLC (Maritime Rail), a noncarrier, has filed a verified notice of exemption under 49 CFR 1150.31 to lease and operate certain railroad properties totaling about 3,500 track feet in length. The tracks, which extend beyond a point of connection with a Consolidated Rail Corporation branch line known as Meadows Industrial Track No. 1, are identified on the Exhibit A-1 map attached to the notice of exemption as: (1) An existing lead track that terminates in a track identified on the A-1 map as the “car loading track'; (2) an existing track identified on the A-1 map as the “10-car storage track'; (3) an existing track identified on the A-1 map as the “10-car capacity track for holding empties while loads are pulled'; and (4) a track identified on the A-1 map as the “10-car capacity loading track,” which does not now exist but which will be constructed at a later date (this track existed in the past, but it is now paved over). Maritime Rail certifies that its projected annual revenues will not exceed $5 million and that Maritime Rail will be a Class III rail carrier.

Maritime Rail states that it intends to commence operations sometime during the year 2004, specifically 6 to 8 months after the Army Corps of Engineers and the State of New Jersey award a joint contract for a demonstration project involving the dredging of the Passaic River and the treatment of the dredged material. By decision served December 8, 2003, the effective date of Maritime Rail's exemption was postponed to January 8, 2004. Therefore, the earliest the transaction can be consummated is January 8, 2004.

If the notice contains false or misleading information, the exemption is void ab initio. Petitions to revoke the exemption under 49 U.S.C. 10502(d) may be filed at any time. The filing of a petition to revoke will not automatically stay the transaction.

An original and 10 copies of all pleadings, referring to STB Finance Docket No. 34442, must be filed with the Surface Transportation Board, 1925 K Street, NW., Washington, DC 20423-0001. In addition, one copy of each pleading must be served on John D. Heffner, Esq., 1920 N Street, NW., Suite 800, Washington, DC 20036.

Board decisions and notices are available on our Web site at http://www.stb.dot.gov.

Decided: December 12, 2003.
By the Board, David M. Konschnik, Director, Office of Proceedings.
Vernon A. Williams,
Secretary.

[FR Doc. 03-31221 Filed 12-18-03; 8:45 am]

BILLING CODE 4915-00-P